DEPARTMENT OF TRANSPORTATION

Federal Aviation Administration

14 CFR Part 97

[Docket No. 31008; Amdt. No. 3635]

Standard Instrument Approach Procedures, and Takeoff Minimums and Obstacle Departure Procedures; Miscellaneous Amendments

AGENCY: Federal Aviation Administration (FAA), DOT.

ACTION: Final rule.

SUMMARY: This rule establishes, amends, suspends, or removes Standard Instrument Approach Procedures (SIAPs) and associated Takeoff Minimums and Obstacle Departure Procedures (ODPs) for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective April 13, 2015. The compliance date for each SIAP, associated Takeoff Minimums, and ODP is specified in the amendatory provisions.

The incorporation by reference of certain publications listed in the regulations is approved by the Director of the Federal Register as of April 13, 2015.

ADDRESSES: Availability of matters incorporated by reference in the amendment is as follows:

For Examination

1. U.S. Department of Transportation, Docket Ops-M30, 1200 New Jersey Avenue SE., West Bldg., Ground Floor, Washington, DC 20590-0001.

2. The FAA Air Traffic Organization Service Area in which the affected airport is located;

3. The office of Aeronautical Navigation Products, 6500 South MacArthur Blvd., Oklahoma City, OK 73169 or,

4. The National Archives and Records Administration (NARA). For information on the availability of this material at NARA, call 202-741-6030, or go to: http://www.archives.gov/federal_register/code_of_federal_regulations/ibr_locations.html.

Availability

All SIAPs and Takeoff Minimums and ODPs are available online free of charge. Visit the National Flight Data Center at nfdc.faa.gov to register. Additionally, individual SIAP and Takeoff Minimums and ODP copies may be obtained from the FAA Air Traffic Organization Service Area in which the affected airport is located.

FOR FURTHER INFORMATION CONTACT: Richard A. Dunham III, Flight Procedure Standards Branch (AFS-420), Flight Technologies and Programs Divisions, Flight Standards Service, Federal Aviation Administration, Mike Monroney Aeronautical Center, 6500 South MacArthur Blvd. Oklahoma City, OK 73169 (Mail Address: P.O. Box 25082, Oklahoma City, OK 73125) Telephone: (405) 954-4164.

SUPPLEMENTARY INFORMATION: This rule amends Title 14 of the Code of Federal Regulations, Part 97 (14 CFR part 97), by establishing, amending, suspending, or removes SIAPS, Takeoff Minimums and/or ODPS. The complete regulatory description of each SIAP and its associated Takeoff Minimums or ODP for an identified airport is listed on FAA form documents which are incorporated by reference in this amendment under 5 U.S.C. 552(a), 1 CFR part 51, and 14 CFR part § 97.20. The applicable FAA forms are FAA Forms 8260-3, 8260-4, 8260-5, 8260-15A, and 8260-15B when required by an entry on 8260-15A.

The large number of SIAPs, Takeoff Minimums and ODPs, their complex nature, and the need for a special format make publication in the Federal Register expensive and impractical. Further, airmen do not use the regulatory text of the SIAPs, Takeoff Minimums or ODPs, but instead refer to their graphic depiction on charts printed by publishers of aeronautical materials. Thus, the advantages of incorporation by reference are realized and publication of the complete description of each SIAP, Takeoff Minimums and ODP listed on FAA form documents is unnecessary. This amendment provides the affected CFR sections and specifies the types of SIAPs, Takeoff Minimums and ODPs with their applicable effective dates. This amendment also identifies the airport and its location, the procedure, and the amendment number.

Availability and Summary of Material Incorporated by Reference

The material incorporated by reference is publicly available as listed in the ADDRESSES section.

The material incorporated by reference describes SIAPS, Takeoff Minimums and/or ODPS as identified in the amendatory language for part 97 of this final rule.

The Rule

This amendment to 14 CFR part 97 is effective upon publication of each separate SIAP, Takeoff Minimums and ODP as Amended in the transmittal. Some SIAP and Takeoff Minimums and textual ODP amendments may have been issued previously by the FAA in a Flight Data Center (FDC) Notice to Airmen (NOTAM) as an emergency action of immediate flight safety relating directly to published aeronautical charts.

The circumstances that created the need for some SIAP and Takeoff Minimums and ODP amendments may require making them effective in less than 30 days. For the remaining SIAPs and Takeoff Minimums and ODPs, an effective date at least 30 days after publication is provided.

Further, the SIAPs and Takeoff Minimums and ODPs contained in this amendment are based on the criteria contained in the U.S. Standard for Terminal Instrument Procedures (TERPS). In developing these SIAPs and Takeoff Minimums and ODPs, the TERPS criteria were applied to the conditions existing or anticipated at the affected airports. Because of the close and immediate relationship between these SIAPs, Takeoff Minimums and ODPs, and safety in air commerce, I find that notice and public procedure under 5 U.S.C. 553(b) are impracticable and contrary to the public interest and, where applicable, under 5 U.S.C. 553(d), good cause exists for making some SIAPs effective in less than 30 days.

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26,1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, Navigation (air).

Issued in Washington, DC, on March 13, 2015.
John Duncan,
Director, Flight Standards Service.

Adoption of the Amendment

Accordingly, pursuant to the authority delegated to me, Title 14, Code of Federal Regulations, Part 97 (14 CFR part 97) is amended by establishing, amending, suspending, or removing Standard Instrument Approach Procedures and/or Takeoff Minimums and Obstacle Departure Procedures effective at 0901 UTC on the dates specified, as follows:

Part 97—Standard Instrument Approach Procedures

1. The authority citation for part 97 continues to read as follows:

Authority: 49 U.S.C. 106(g), 40103, 40106, 40113, 40114, 40120, 44502, 44514, 44701, 44719, 44721-44722.

2. Part 97 is amended to read as follows:

Effective 30 April 2015

Conway, AR, Dennis F Cantrell Field, NDB-A, Amdt 2, CANCELED

Conway, AR, Dennis F Cantrell Field, RNAV (GPS)-B, Orig, CANCELED

Conway, AR, Dennis F Cantrell Field, Takeoff Minimums and Obstacle DP, Amdt 2, CANCELED

San Jose, CA, Norman Y. Mineta San Jose Intl, RNAV (GPS) Y RWY 30R, Amdt 3

Tampa, FL, Tampa Intl, Takeoff Minimums and Obstacle DP, Amdt 10

Peoria, IL, General Downing—Peoria Intl, ILS OR LOC RWY 4, Amdt 2

Peoria, IL, General Downing—Peoria Intl, ILS OR LOC RWY 13, Amdt 6E

Peoria, IL, General Downing—Peoria Intl, ILS OR LOC RWY 31, Amdt 7C

Peoria, IL, General Downing—Peoria Intl, NDB RWY 31, Amdt 15B

Peoria, IL, General Downing—Peoria Intl, RNAV (GPS) RWY 4, Amdt 2

Peoria, IL, General Downing—Peoria Intl, RNAV (GPS) RWY 13, Amdt 1A

Peoria, IL, General Downing—Peoria Intl, RNAV (GPS) RWY 22, Amdt 1B

Peoria, IL, General Downing—Peoria Intl, RNAV (GPS) RWY 31, Amdt 1B

Peoria, IL, General Downing—Peoria Intl, Takeoff Minimums and Obstacle DP, Amdt 2

Peoria, IL, Mount Hawley Auxiliary, VOR-A, Amdt 4, CANCELED

Peoria, IL, Mount Hawley Auxiliary, VOR/DME-A, Orig

Baton Rouge, LA, Baton Rouge Metropolitan, Ryan Field, ILS OR LOC RWY 13, Amdt 27E

Baton Rouge, LA, Baton Rouge Metropolitan, Ryan Field, ILS OR LOC RWY 22R, Amdt 11B

Baton Rouge, LA, Baton Rouge Metropolitan, Ryan Field, NDB RWY 31, Amdt 2D

Baton Rouge, LA, Baton Rouge Metropolitan, Ryan Field, RNAV (GPS) RWY 31, Amdt 1D

Baton Rouge, LA, Baton Rouge Metropolitan, Ryan Field, VOR RWY 4L, Amdt 17C

Baton Rouge, LA, Baton Rouge Metropolitan, Ryan Field, VOR/DME RWY 22R, Amdt 8H

Gonzales, LA, Louisiana Rgnl, RNAV (GPS) RWY 17, Amdt 1B

Gonzales, LA, Louisiana Rgnl, VOR/DME-A, Amdt 2A

Lafayette, LA, Lafayette Rgnl, RNAV (GPS) RWY 29, Orig-B

New Roads, LA, False River Rgnl, LOC RWY 36, Amdt 1A

New Roads, LA, False River Rgnl, NDB RWY 36, Amdt 2A

New Roads, LA, False River Rgnl, RNAV (GPS) RWY 18, Orig-A

New Roads, LA, False River Rgnl, RNAV (GPS) RWY 36, Orig-A

New Roads, LA, False River Rgnl, VOR/DME-A, Amdt 4A

Detroit, MI, Willow Run, Takeoff Minimums and Obstacle DP, Amdt 10A

Minneapolis, MN, Minneapolis-St Paul Intl/Wold-Chamberlain, ILS V RWY 35 (CONVERGING), Amdt 4

Minneapolis, MN, Minneapolis-St Paul Intl/Wold-Chamberlain, ILS Z OR LOC RWY 35, ILS Z RWY 35 (SA CAT I), ILS Z RWY 35 (CAT II), ILS Z RWY 35 (CAT III), Amdt 4

Minneapolis, MN, Minneapolis-St Paul Intl/Wold-Chamberlain, RNAV (GPS) Z RWY 30L, Amdt 4

Minneapolis, MN, Minneapolis-St Paul Intl/Wold-Chamberlain, RNAV (GPS) Z RWY 35, Amdt 3

Minneapolis, MN, Minneapolis-St Paul Intl/Wold-Chamberlain, RNAV (RNP) Y RWY 12L, Orig

Minneapolis, MN, Minneapolis-St Paul Intl/Wold-Chamberlain, RNAV (RNP) Y RWY 12R, Orig

Minneapolis, MN, Minneapolis-St Paul Intl/Wold-Chamberlain, RNAV (RNP) Y RWY 30L, Orig

New Ulm, MN, New Ulm Muni, NDB RWY 15, Amdt 2A, CANCELED

New Ulm, MN, New Ulm Muni, NDB RWY 33, Amdt 2A, CANCELED

Steele, MO, Steele Muni, RNAV (GPS) RWY 18, Orig

Steele, MO, Steele Muni, RNAV (GPS) RWY 36, Orig

Steele, MO, Steele Muni, Takeoff Minimums and Obstacle DP, Orig

Billings, MT, Billings Logan Intl, ILS OR LOC/DME RWY 28R, Amdt 2

Billings, MT, Billings Logan Intl, RNAV (GPS) Y RWY 10L, Amdt 3

Billings, MT, Billings Logan Intl, RNAV (GPS) Y RWY 28R, Amdt 3

Billings, MT, Billings Logan Intl, RNAV (RNP) Z RWY 28R, Orig

Kalispell, MT, Glacier Park Intl, ILS OR LOC RWY 2, Amdt 7

Ahoskie, NC, Tri-County, GPS RWY 1, Orig, CANCELED

Ahoskie, NC, Tri-County, GPS RWY 19, Orig, CANCELED

Ahoskie, NC, Tri-County, RNAV (GPS) RWY 1, Orig

Ahoskie, NC, Tri-County, RNAV (GPS) RWY 19, Orig

Ahoskie, NC, Tri-County, VOR/DME-A, Amdt 6

Charlotte, NC, Charlotte/Douglas Intl, ILS OR LOC RWY 18L, Amdt 8

Charlotte, NC, Charlotte/Douglas Intl, ILS OR LOC RWY 18R, ILS RWY 18R (SA CAT I), ILS RWY 18R (CAT II), ILS RWY 18R (CAT III), Amdt 1

Charlotte, NC, Charlotte/Douglas Intl, ILS OR LOC RWY 36L, ILS RWY 36L (SA CAT I), ILS RWY 36L (CAT II), ILS RWY 36L (CAT III), Amdt 1

Charlotte, NC, Charlotte/Douglas Intl, ILS OR LOC RWY 36R, ILS RWY 36R (SA CAT I), ILS RWY 36R (CAT II), ILS RWY 36R (CAT III), Amdt 12

Charlotte, NC, Charlotte/Douglas Intl, RNAV (GPS) Y RWY 18L, Amdt 4

Charlotte, NC, Charlotte/Douglas Intl, RNAV (GPS) Y RWY 18R, Amdt 1

Charlotte, NC, Charlotte/Douglas Intl, RNAV (GPS) Y RWY 36L, Amdt 1

Charlotte, NC, Charlotte/Douglas Intl, RNAV (GPS) Y RWY 36R, Amdt 4

Smithfield, NC, Johnston Regional, ILS OR LOC Y RWY 3, Orig

Smithfield, NC, Johnston Regional, ILS OR LOC Z RWY 3, Amdt 2

Smithfield, NC, Johnston Regional, NDB RWY 3, Amdt 2

Smithfield, NC, Johnston Regional, RNAV (GPS) RWY 3, Amdt 1

Smithfield, NC, Johnston Regional, RNAV (GPS) RWY 21, Amdt 1

Smithfield, NC, Johnston Regional, Takeoff Minimums and Obstacle DP, Amdt 4

Curtis, NE., Curtis Muni, RNAV (GPS) RWY 12, Orig

Curtis, NE., Curtis Muni, RNAV (GPS) RWY 30, Orig

Curtis, NE., Curtis Muni, Takeoff Minimums and Obstacle DP, Orig

Oklahoma City, OK, Wiley Post, RNAV (GPS) RWY 17L, Amdt 2A

Houston, TX, Houston Executive, RNAV (GPS) RWY 18, Orig-A

Kingsville, TX, Kleberg County, NDB RWY 13, Amdt 6, CANCELED

New Braunfels, TX, New Braunfels Rgnl, RNAV (GPS) RWY 13, Amdt 1

New Braunfels, TX, New Braunfels Rgnl, RNAV (GPS) RWY 31, Amdt 1

Price, UT, Carbon County Rgnl/Buck Davis Field, RNAV (GPS) RWY 1, Amdt 2

Siren, WI, Burnett County, RNAV (GPS) RWY 5, Orig

Siren, WI, Burnett County, RNAV (GPS) RWY 14, Orig

Siren, WI, Burnett County, RNAV (GPS) RWY 23, Orig

Siren, WI, Burnett County, RNAV (GPS) RWY 32, Orig

Siren, WI, Burnett County, VOR RWY 5, Amdt 3

[FR Doc. 2015-08113 Filed 4-10-15; 8:45 am]

BILLING CODE 4910-13-P